DEPARTMENT OF DEFENSE

Office of the Secretary

[Docket ID: DOD-2009-OS-0049]

Privacy Act of 1974; System of Records

AGENCY: Office of the Secretary, DoD.

ACTION: Notice to amend a system of records.

SUMMARY: The Office of the Secretary of Defense is amending DMDC 04 system of records notice in its existing inventory of record systems subject to the Privacy Act of 1974, (5 U.S.C. 552a), as amended.

DATES: This proposed action will be effective without further notice on May 14, 2009 unless comments are received which result in a contrary determination.

ADDRESSES: Send comments to the OSD Privacy Act Coordinator, Records Management Section, Washington Headquarters Services, 1155 Defense Pentagon, Washington, DC 20301-1155.

FOR FURTHER INFORMATION CONTACT: Ms. Cindy Allard at (703) 588-6830.

SUPPLEMENTARY INFORMATION: The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: April 9, 2009.
Morgan E. Frazier,
Alternate OSD Federal Register Liaison Officer, Department of Defense.

DMDC 04

System name:

Noncombatant Evacuation & Repatriation Data Base (NEO) (October 2, 2007, 72 FR 56067).

Changes:

* * * * *

System Name:

Delete entry and replace with “Emergency Evacuation Tracking and Repatriation”.

* * * * *

Categories of Individuals Covered by the System:

Delete entry and replace with “Noncombatant evacuees including service members, their dependents, DoD and non-DoD employees and dependents, U.S. residents in the United States and overseas, foreign nationals and corporate employees and dependents. The Emergency Tracking and Accountability System (ETAS) will include the before mentioned as well as visitors to the United States.”

Categories of Records in the System:

Delete entry and replace with “Name, date of birth, gender, Social Security Number (SSN), country of citizenship, marital status, sponsor data, destination or final address, telephone number, emergency contact information, and contact information, passport number, child information, and spouse information.”

* * * * *

Purposes:

Delete entry and replace with “The records for the Non-combatant Tracking System (NTS) and the Emergency Tracking and Accountability System (ETAS) are maintained for the purposes of tracking and accounting for individuals evacuated from emergency situations overseas and in the United States, securing relocation and assistance services, and assessing and recovering relocation costs through the Automated Repatriation Reporting System (ARRS).”

* * * * *

Notification procedure:

Delete entry and replace with “Individuals seeking to determine whether information about themselves is contained in this system should address written inquiries to the Privacy Act Officer, Office of Freedom of Information, Washington Headquarters Services, 1155 Defense Pentagon, Washington, DC 20301-1155.

Written requests should contain the full name, Social Security Number (SSN), date of birth, and current address and telephone number of the individual.”

Record Access Procedures:

Delete entry and replace with “Individuals seeking access to information about themselves contained in this system should address written inquiries to the Privacy Act Officer, Office of Freedom of Information, Washington Headquarters Services, 1155 Defense Pentagon, Washington, DC 20301-1155.

Written requests should contain the full name, Social Security Number (SSN), date of birth, and current address and telephone number of the individual and be signed.”

* * * * *

DMDC 04

System name:

Emergency Evacuation Tracking and Repatriation.

System location:

Defense Manpower Data Center, DoD Center Monterey Bay, 400 Gigling Road, Seaside, CA 93955-6771. Information may be accessed by remote terminals at the repatriation centers. The location of the repatriation centers can be obtained from the System manager listed below.

Categories of individuals covered by the system:

Noncombatant evacuees including service members, their dependents, DoD and non-DoD employees and dependents, U.S. residents in the United States and overseas, foreign nationals and corporate employees and dependents. The Emergency Tracking and Accountability System (ETAS) will include the before mentioned as well as visitors to the United States.

Categories of records in the system:

Name, date of birth, gender, Social Security Number (SSN), country of citizenship, marital status, sponsor data, destination or final address, telephone number, emergency contact information, and contact information, passport number, child information, and spouse information.

Authority for maintenance of the system:

E.O. 12656, Assignment of Emergency Preparedness Responsibilities, November 18, 1988; DoD Directive 3025.14, Protection and Evacuation of U.S. Citizens and Designated Aliens in Danger Areas Abroad; and E.O. 9397 (SSN).

Purpose(s):

The records for the Non-combatant Tracking System (NTS) and the Emergency Tracking and Accountability System (ETAS) are maintained for the purposes of tracking and accounting for individuals evacuated from emergency situations overseas and in the United States, securing relocation and assistance services, and assessing and recovering relocation costs through the Automated Repatriation Reporting System (ARRS).

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To individuals who have been evacuated but who have been separated from their family and/or spouse. Information will be released to the individual indicating where the family member was evacuated from and final destination.

To Department of State to plan and monitor evacuation effectiveness and need for services and to verify the number of people by category who have been evacuated.

To the American Red Cross so that upon receipt of information from a repatriation center that a DoD family has arrived safely in the U.S., the Red Cross may notify the service member (sponsor) still in the foreign country that his/her family has safely arrived in the United States.

To the U.S. Citizenship and Immigration Service to track and make contact with all foreign nationals who have been evacuated to the U.S.

To the Department of Health and Human Services for purposes of giving financial assistance and recoupment of same. To identify individuals who might arrive with an illness which would require quarantine.

The DoD ‘Blanket Routine Uses' set forth at the beginning of the OSD compilation of systems of records notices apply to this system.

Policies and practices for storing, retrieving, accessing and disposing of records in the system:

Storage:

Electronic and hard copy storage.

Retrievability:

Retrieved by name, Social Security Number, or location of evacuation point or repatriation center.

Safeguards:

Computerized records are maintained in a controlled area accessible only to authorized personnel. At Defense Manpower Data Center (DMDC), entry to these areas is restricted by the use of locks, guards, and administrative procedures. Access to personal information is limited to those who require the records in the performance of their official duties. Access to personal information is further restricted by the use of passwords which are changed periodically.

Retention and disposal:

Master file, system documentation, codebooks, record layouts, and other system documentation are permanent. Inputs/Source Records are deleted and/or destroyed after data have been entered into the master file or when no longer needed for operational purposes, whichever is later. Summary reports (electronic or paper) are deleted and/or destroyed when no longer needed for operational purposes.

System manager(s) and address:

Director, Defense Manpower Data Center, 1600 Wilson Boulevard, Suite 400, Arlington, VA 22209-2593.

Notification procedure:

Individuals seeking to determine whether information about themselves is contained in this system should address written inquiries to the Privacy Act Officer, Office of Freedom of Information, Washington Headquarters Services, 1155 Defense Pentagon, Washington, DC 20301-1155.

Written requests should contain the full name, Social Security Number (SSN), date of birth, and current address and telephone number of the individual.

Record access procedures:

Individuals seeking access to information about themselves contained in this system should address written inquiries to the Privacy Act Officer, Office of Freedom of Information, Washington Headquarters Services, 1155 Defense Pentagon, Washington, DC 20301-1155.

Written requests should contain the full name, Social Security Number (SSN), date of birth, and current address and telephone number of the individual and be signed.

Contesting record procedures:

The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.

Record source categories:

The Military Services, DoD Components, and from individuals via application.

Exemptions claimed for the system:

None.

[FR Doc. E9-8434 Filed 4-13-09; 8:45 am]

BILLING CODE 5001-06-P